DEPARTMENT OF AGRICULTURE

Forest Service

MedBow-Routt Resource Advisory Committee

AGENCY: Forest Service, USDA.

ACTION: Notice of meeting.

SUMMARY: The MedBow-Routt Resource Advisory Committee will meet in Saratoga, Wyoming. The committee is meeting as authorized under the Secure Rural Schools and Community Self-Determination Act (Pub. L. 110-343) and in compliance with the Federal Advisory Committee Act. The purpose of the meeting is for an update on projects proposed for funding, and selection of some projects.

DATES: The meeting will be held Sept 2, 2010, 9:30 a.m.-3:30 p.m.

ADDRESSES: The meeting will be held at the Forest Service Office, 5556 State Highway 130, Saratoga, Wyoming. Written comments should be sent to Phil Cruz, RAC DFO, 2468 Jackson Street, Laramie, Wyoming 82070. Comments may also be sent via e-mail to pcruz@fs.fed.us, or via facsimile to 307-745-2467.

All comments, including names and addresses when provided, are placed in the record and are available for public inspection and copying. The public may inspect comments received at the Forest Supervisor's Office, 2468 Jackson Street, Laramie, Wyoming.

FOR FURTHER INFORMATION CONTACT: Diann Ritschard, RAC Coordinator, 925 Weiss Drive, Steamboat Springs, CO 80487, 970-870-2187, dritschard@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: Review and discussion of projects proposed for funding, and selection of some projects. Persons who wish to bring related matters to the attention of the Committee may file written statements with the Committee staff before or after the meeting. Public input sessions will be provided and individuals who made written requests by Aug. 30, 2010 will have the opportunity to address the Committee at those sessions.

Dated: August 17, 2010.
Phil Cruz,
Acting Forest Supervisor.

[FR Doc. 2010-21087 Filed 8-24-10; 8:45 am]

BILLING CODE 3410-11-P